DEPARTMENT OF COMMERCE

National Oceanic and Atmospheric Administration

50 CFR Parts 600 and 660

[Docket No. 001226367-0367-01; I.D. 121500E]

Magnuson-Stevens Act Provisions; Fisheries off West Coast States and in the Western Pacific; Pacific Coast Groundfish Fishery; Annual Specifications and Management Measures; Corrections

AGENCY: National Marine Fisheries Service (NMFS), National Oceanic and Atmospheric Administration (NOAA), Commerce.

ACTION: Corrections to the 2001 specifications for the Pacific Coast groundfish fishery.

SUMMARY: This document contains corrections to the 2001 groundfish fishery specifications and management measures for the Pacific Coast groundfish fishery, which were published on January 11, 2001.

DATES: Effective April 9, 2001.

FOR FURTHER INFORMATION CONTACT: Yvonne deReynier or Becky Renko, NMFS, (206) 526-6140.

SUPPLEMENTARY INFORMATION:

Background

The 2001 fishery specifications and management measures for groundfish taken in the U.S. exclusive economic zone and state waters off the coasts of Washington, Oregon, and California, as authorized by the Pacific Coast Groundfish Fishery Management Plan, were published in the Federal Register on January 11, 2001 (66 FR 2338). The specifications contained a number of errors that require correction.

Corrections

In the rule FR Doc. 01-560, in the issue of Thursday, January 11, 2001 (66 FR 2338), make the following corrections:

1. On page 2362, in the second and third columns, paragraph IV.A 20(ii) is corrected to read as follows:

“(ii) The Eastern CCA is a smaller area west of San Diego and northwest of the U.S.-Mexico International Boundary that is bound by straight lines connecting all of the following points in the order listed.

32°40′ N. lat., 118°00′ W. long.;

32°40′ N. lat., 117°50′ W. long.;

32°36′ 42″ N. lat., 117° 50′ W. long.;

32°30′ N. lat., 117° 53′ 30″ W. long.;

32°30′ N. lat., 118°00′ W. long.;

and connecting back to 32°40′ N. lat., 118°00′ W. long.”

2. On page 2369, in the second column, paragraph IV.C.(3)(b) is corrected to read as follows:

“(b) All other groundfish species taken with exempted trawl gear by vessels engaged in fishing for pink shrimp are managed under the overall 500 lb (227 kg) per day and 1,500 lb (680 kg) per trip groundfish limits. Landings of these species count toward the per day and per trip groundfish limits. Just the species-specific limits in paragraph (a) of this paragraph IV.C. (3)(b) count toward the per day and per trip groundfish limits.”

Dated: April 3, 2001.
Clarence Pautzke,
Acting Assistant Administrator for Fisheries, National Marine Fisheries Service.

[FR Doc. 01-8657 Filed 4-6-01; 8:45 am]

BILLING CODE 3510-22-S